DEPARTMENT OF VETERANS AFFAIRS

[OMB Control No. 2900-0491]

Agency Information Collection Activity Under OMB Review: Community Residential Care (CRC) Recordkeeping Requirements

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0491.

FOR FURTHER INFORMATION CONTACT: Maribel Aponte, Office of Enterprise and Integration, Data Governance Analytics (008), 1717 H Street NW, Washington, DC 20006, (202) 266-4688 or email maribel.aponte@va.gov. Please refer to “OMB Control No. 2900-0491” in any correspondence.

SUPPLEMENTARY INFORMATION:

Authority: 44 U.S.C. 3501-21.

Title: Community Residential Care (CRC) Recordkeeping Requirements.

OMB Control Number: 2900-0491.

Type of Review: Reinstatement of a previously approved collection.

Abstract: One of the standards a Community Residential Care (CRC) facility must meet is the requirement that the CRC must maintain records on each resident in a secure place. Facility records must include emergency notification procedures and a copy of all signed agreements with the resident. 38 CFR 17.63(i). These records must be maintained by the CRC, and the CRC must make those records available for VA inspection upon request. A Medical Foster Home is a subtype of CRC and is required to comply with the record keeping requirements of 38 CFR 17.63(i). See 38 CFR 17.74(q). In addition, the CRC must maintain and make available, upon request of the approving official, records related to CRC staff requirements and provide that the CRC has sufficient, qualified staff on duty and available to care for the resident and ensure the health and safety of each resident.

An agency may not conduct or sponsor, and a person is not required to respond to a collection of information unless it displays a currently valid OMB control number. The Federal Register Notice with a 60-day comment period soliciting comments on this collection of information was published at 86 FR 128 on July 8, 2021, pages 36190 and 36191.

Affected Public: Individuals or Households.

Estimated Annual Burden: 1,095 hours.

Estimated Average Burden per Respondent: 90 minutes.

Frequency of Response: Once annually.

Estimated Number of Respondents: 730.

By direction of the Secretary.
Maribel Aponte,
VA PRA Clearance Officer, Office of Enterprise and Integration, Data Governance Analytics, Department of Veterans Affairs.

[FR Doc. 2021-21805 Filed 10-5-21; 8:45 am]

BILLING CODE 8320-01-P